DEPARTMENT OF HOUSING AND URBAN DEVELOPMENT

[Docket No. FR-5849-N-05]

Notice of a Federal Advisory Committee Manufactured Housing Consensus Committee Regulatory Subcommittee Teleconference

AGENCY: Office of the Assistant Secretary for Housing—Federal Housing Commissioner, HUD.

ACTION: Notice of a Federal Advisory Meeting.

SUMMARY: This notice announces the schedule and proposed agenda for a teleconference meeting of the Manufactured Housing Consensus Committee (MHCC), Regulatory Subcommittee. The teleconference meeting is open to the public. The agenda provides an opportunity for citizens to comment on the business before the MHCC.

DATES: The teleconference meeting will be held on October 27, 2015, 1 p.m. to 4 p.m. Eastern Daylight Time (EDT). The teleconference numbers are: U.S. toll-free: 1-866-622-8461, Participant Code: 4325434.

FOR FURTHER INFORMATION CONTACT: Pamela Beck Danner, Administrator and Designated Federal Official (DFO), Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to make oral comments on the business of the MHCC are encouraged to register by or before October 23, 2015, by contacting Home Innovation Research Labs, 400 Prince Georges Boulevard, Upper Marlboro, MD 20774; Attention: Kevin Kauffman, or email to: MHCC@homeinnovation.com or by calling 1-888-602-4663. Written comments are encouraged. The MHCC strives to accommodate citizen comments to the extent possible within the time constraints of the meeting agenda. Advance registration is strongly encouraged. The MHCC will also provide an opportunity for public comment on specific matters before the Regulatory Subcommittee.

Tentative Agenda:

October 27, 2015, from 1:00 p.m. to 4:00 p.m. Eastern Daylight Time (EDT)

I. Call to Order and Roll Call

II. Opening Remarks: Subcommittee Chair and DFO

III. Approve Regulatory Subcommittee Minutes from the August 18-20, 2015, meeting

IV. New Business

• Action Item 6—Shower, bathtub and tub-shower combination valves adjustment during installation

• Review of HUD's SAA funding option proposals

V. Open Discussion

VI. Public Comments

VII. Adjourn: 4:00 p.m.

Dated: October 8, 2015.
Pamela Beck Danner,
Administrator, Office of Manufactured Housing Programs.

[FR Doc. 2015-26144 Filed 10-13-15; 8:45 am]

BILLING CODE 4210-67-P